DEPARTMENT OF THE INTERIOR

Fish and Wildlife Service

[Docket No. FWS-HQ-IA-2019-0093; FXIA16710900000-201-FF09A30000]

Foreign Endangered Species; Marine Mammals; Receipt of Permit Applications

AGENCY: Fish and Wildlife Service, Interior.

ACTION: Notice of receipt of permit applications; request for comments.

SUMMARY: We, the U.S. Fish and Wildlife Service (Service), invite the public to comment on applications to conduct certain activities with foreign species that are listed as endangered under the Endangered Species Act (ESA) and foreign or native species for which the Service has jurisdiction under the Marine Mammal Protection Act (MMPA). With some exceptions, the ESA and the MMPA prohibit activities with listed species unless Federal authorization is issued that allows such activities. The ESA and MMPA also require that we invite public comment before issuing permits for any activity otherwise prohibited by the ESA or MMPA with respect to any endangered species or marine mammals.

DATES: We must receive comments by December 20, 2019.

ADDRESSES:

Obtaining Documents: The applications, application supporting materials, and any comments and other materials that we receive will be available for public inspection at http://www.regulations.gov in Docket No. FWS-HQ-IA-2019-0093.

Submitting Comments: When submitting comments, please specify the name of the applicant and the permit number at the beginning of your comment. You may submit comments by one of the following methods:

• Internet: http://www.regulations.gov. Search for and submit comments on Docket No. FWS-HQ-IA-2019-0093.

• U.S. mail or hand-delivery: Public Comments Processing, Attn: Docket No. FWS-HQ-IA-2019-0093; U.S. Fish and Wildlife Service Headquarters, MS: PERMA; 5275 Leesburg Pike; Falls Church, VA 22041-3803.

For more information, see Public Comment Procedures under SUPPLEMENTARY INFORMATION.

FOR FURTHER INFORMATION CONTACT: Monica Thomas, by phone at 703-358-2104, via email at DMAFR@fws.gov, or via the Federal Relay Service at 800-877-8339.

SUPPLEMENTARY INFORMATION:

I. Public Comment Procedures

A. How do I comment on submitted applications?

We invite the public and local, State, Tribal, and Federal agencies to comment on these applications. Before issuing any of the requested permits, we will take into consideration any information that we receive during the public comment period.

You may submit your comments and materials by one of the methods in ADDRESSES. We will not consider comments sent by email or fax, or to an address not in ADDRESSES. We will not consider or include in our administrative record comments we receive after the close of the comment period (see DATES).

When submitting comments, please specify the name of the applicant and the permit number at the beginning of your comment. Provide sufficient information to allow us to authenticate any scientific or commercial data you include. The comments and recommendations that will be most useful and likely to influence agency decisions are: (1) Those supported by quantitative information or studies; and (2) those that include citations to, and analyses of, the applicable laws and regulations.

B. May I review comments submitted by others?

You may view and comment on others' public comments at http://www.regulations.gov, unless our allowing so would violate the Privacy Act (5 U.S.C. 552a) or Freedom of Information Act (5 U.S.C. 552).

C. Who will see my comments?

If you submit a comment at http://www.regulations.gov, your entire comment, including any personal identifying information, will be posted on the website. If you submit a hardcopy comment that includes personal identifying information, such as your address, phone number, or email address, you may request at the top of your document that we withhold this information from public review. However, we cannot guarantee that we will be able to do so. Moreover, all submissions from organizations or businesses, and from individuals identifying themselves as representatives or officials of organizations or businesses, will be made available for public disclosure in their entirety.

II. Background

To help us carry out our conservation responsibilities for affected species, and in consideration of section 10(c) of the Endangered Species Act of 1973, as amended (ESA; 16 U.S.C. 1531 et seq.), and section 104(c) of the Marine Mammal Protection Act of 1972, as amended (MMPA; 16 U.S.C. 1361 et seq.), we invite public comments on permit applications before final action is taken. With some exceptions, the ESA and MMPA prohibit certain activities with listed species unless Federal authorization is issued that allows such activities. Permits issued under section 10(a)(1)(A) of the ESA allow otherwise prohibited activities for scientific purposes or to enhance the propagation or survival of the affected species. Service regulations regarding prohibited activities with endangered species, captive-bred wildlife registrations, and permits for any activity otherwise prohibited by the ESA with respect to any endangered species are available in title 50 of the Code of Federal Regulations in part 17. Service regulations regarding permits for any activity otherwise prohibited by the MMPA with respect to any marine mammals are available in title 50 of the Code of Federal Regulations in part 18. Concurrent with publishing this notice in the Federal Register, we are forwarding copies of the marine mammal applications to the Marine Mammal Commission and the Committee of Scientific Advisors for their review.

III. Permit Applications

We invite comments on the following applications.

A. Endangered Species

Applicant: University of Washington, Seattle, WA; Permit No. 40810D

The applicant requests authorization to import biological samples of wild and captive ground pangolin (Manis temminckii) from multiple countries for the purpose of scientific research. This notification covers activities to be conducted by the applicant over a 5-year period.

Applicant: Hidden Harbor Marine Environmental Project, Inc. dba The Turtle Hospital, Marathon, FL; Permit No. 47936D

The applicant requests authorization to export one female loggerhead sea turtle (Caretta caretta) from The Turtle Hospital, Marathon, FL to Sea Life London Aquarium, London, U.K., for the purpose of enhancing the propagation or survival of the species. This notification is for a single export.

Applicant: Royal Botanic Gardens, Kew, c/o Caribbean Ecological Service Field Office, Boqueron, PR; Permit No. 51216D

The applicant requests authorization to export dried and/or preserved plant samples of (Cordia bellonis) for the purpose of scientific research. This notification covers activities to be conducted by the applicant over a 5-year period.

Applicant: Stevens Forest, Sanderson, TX; Permit No. 36949D

The applicant requests a captive-bred wildlife registration under 50 CFR 17.21(g) for barasingha (Rucervus duvaucelii) to enhance the propagation or survival of the species. This notification covers activities to be conducted by the applicant over a 5-year period.

Applicant: Joan Hemker, Hemker Park and Zoo, Freeport, MN; Permit No. 21468B

The applicant requests an amendment of an existing captive-bred wildlife registration under 50 CFR 17.21(g) for jackass penguin (Spheniscus demersus), ring-tailed lemur (Lemur catta), cotton-top tamarin (Saguinus oedipus), red ruffed lemur (Varecia rubra), and black-and-white ruffed lemur (Varecia variegata) to enhance the propagation or survival of the species. This notification covers activities to be conducted by the applicant over a 5-year period.

Applicant: Forest Stevens, Sanderson, TX; Permit No. 46450D

The applicant requests a permit authorizing the culling of excess barasingha (Rucervus duvaucelii) from the captive herd maintained at their facility, to enhance the species' propagation and survival. This notification covers activities to be conducted by the applicant over a 5-year period.

The following applicants request permits to import sport-hunted trophies of male bontebok (Damaliscus pygargus pygargus) culled from a captive herd maintained under the management program of the Republic of South Africa, for the purpose of enhancing the propagation or survival of the species.

Applicant: Tanner Glidden, Klamath Falls, OR; Permit No. 51278D

Applicant: Phillip Landry, Leesvile, CA; Permit No. 76127C

B. Endangered Marine Mammals and Marine Mammals

Applicant: Alaska SeaLife Center, Seward, AK; Permit No. 11219B

The applicant requests renewal of their permit for public display of Pacific walrus (Odobenus rosmarus) that were rescued from the wild and designated non-releasable due to their inability to survive in the wild. This notification covers activities to be conducted by the applicant over a 5-year period.

Applicant: U.S. Geological Survey, Anchorage, AK; Permit No. 33776D

The applicant requests a permit to collect biological samples from and conduct aerial surveys using Unmanned Aerial Systems of wild-caught Pacific walrus (Odobenus rosmarus) from all age classes and sexes for the purpose of scientific research. This notification covers activities to be conducted by the applicant over a 5-year period.

Applicant: University of California-Davis, Davis, CA; Permit No. 98121C

The applicant requests a permit to import biological samples from wild-caught Pacific walrus (Odobenus rosmarus) from Fisheries and Oceans Canada for the purpose of scientific research. This notification covers activities to be conducted by the applicant over a 5-year period.

Applicant: Stanford University Medical Center, Stanford, CA; Permit No. 02713D

The applicant requests a permit to import biological samples from two male and two female, wild-caught polar bear (Ursus maritimus) from the University of Alberta, Edmonton, Canada for the purpose of scientific research.

IV. Next Steps

After the comment period closes, we will make decisions regarding permit issuance. If we issue permits to any of the applicants listed in this notice, we will publish a notice in the Federal Register. You may locate the notice announcing the permit issuance by searching http://www.regulations.gov for the permit number listed above in this document. For example, to find information about the potential issuance of Permit No. 12345A, you would go to regulations.gov and search for “12345A”.

V. Authority

We issue this notice under the authority of the Endangered Species Act of 1973, as amended (16 U.S.C. 1531 et seq.), and its implementing regulations, and the Marine Mammal Protection Act of 1972, as amended (16 U.S.C. 1361 et seq.), and its implementing regulations.

Brenda Tapia,
Program Analyst/Data Administrator, Branch of Permits, Division of Management Authority.

[FR Doc. 2019-25082 Filed 11-19-19; 8:45 am]

BILLING CODE 4333-15-P